DEPARTMENT OF THE INTERIOR

Bureau of Land Management

[AK-930-04-1610-DB]

Notice of Extension of the Public Scoping Period for the South National Petroleum Reserve—Alaska Integrated Activity Plan/Environmental Impact Statement and Request for Information, Call for Nominations and Comments, and Solicitation of Interest in Hardrock and Coal Mining

AGENCY: Bureau of Land Management, Interior.

ACTION: Notice of extension.

SUMMARY: The Bureau of Land Management (BLM) announces an extension of the public scoping period on the South National Petroleum Reserve—Alaska Integrated Activity Plan/Environmental Impact Statement and an extension in the Request for Information, Call for Nominations and Comments and the solicitation of interest in hardrock and coal mining. The original notice issued June 15, 2005 provided for a scoping period and the request for other comment and information to end on August 26, 2005. BLM is extending the scoping and related comment and information gathering period through October 17, 2004 and will reschedule scoping meetings in Anaktuvuk Pass, Anchorage, Atqasuk, Barrow, Buckland, Fairbanks, Koyuk, Nome, Nuiqsut, Point Hope, Point Lay, and Wainwright.

DATES: Scoping comments and responses to the Call for Nominations will be accepted through October 17, 2005.

ADDRESSES: Scoping comments should be submitted to: South NPR—A Planning Team Leader, 222 West 7th Avenue, #13, Anchorage, Alaska 99513-7599. Responses to the Call for Nominations must be submitted in envelopes labeled “Nominations Related to the South NPR-A IAP/EIS” to protect the confidentiality of the nominations. They are to be addressed to: Call for Nominations, South NPR-A Team, 222 West 7th Avenue, #13, Anchorage, Alaska 99513-7599.

FOR FURTHER INFORMATION CONTACT: Jim Ducker (907-271-3130) or Susan Childs (907-271-1985) by phone or by mail at 222 West 7th Avenue, #13, Anchorage, AK 99513-7599.

SUPPLEMENTARY INFORMATION: The Notice of Intent issued on June 15, 2005 provided for scoping comments on issues relevant to the scope of the plan to be received through August 26, 2005. The Western Arctic Caribou Herd Working Group (Working Group) has requested an extension in the scoping comment period. BLM has decided to act in accordance to the Working Group's request to better accommodate the subsistence needs of local residents. Therefore, scoping comments on the issues relevant to the scope of the South Plan will now be accepted through October 17, 2005 and the scoping meeting schedule will be adjusted and announced to the public. In addition, the original Notice of Intent provided for a Call for Nominations pursuant to 43 CFR 3131.1 and 3131.2 of relevant information related to possible oil and gas leasing. The Call for Nominations is also extended through October 17, 2005.

Julia Dougan,
Associate State Director.

[FR Doc. 05-16101 Filed 8-12-05; 8:45 am]

BILLING CODE 4310-JA-P